DEPARTMENT OF THE INTERIOR

Bureau of Land Management

[AZ-330-07-7122 FR; AZA-33570]

Notice of Realty Action; Recreation and Public Purposes Act Classification; Arizona

AGENCY: Bureau of Land Management, Interior.

ACTION: Notice of realty action.

SUMMARY: The Bureau of Land Management (BLM) has examined and found suitable for classification to La Paz County for conveyance under the provisions of the Recreation and Public Purposes Act, a 20-acre parcel of public land, located in La Paz County, Arizona. The County plans to construct and operate a wastewater treatment plant on the site to serve communities in the Colorado River area.

DATES: Interested parties may submit written comments at the address stated below, postmarked no later than August 9, 2007.

ADDRESSES: Interested parties may submit written comments to the Field Manager, BLM Lake Havasu Field Office, 2610 Sweetwater Avenue, Lake Havasu City, Arizona 86406. Detailed information concerning this action, including but not limited to documentation related to compliance with applicable environmental and cultural resource laws, is available for review at the above address during regular business hours (8 a.m. to 4:30 p.m.), Monday through Friday, except holidays.

FOR FURTHER INFORMATION CONTACT: Cory Bodman, Realty Specialist, BLM Lake Havasu Field Office, telephone (928) 505-1215.

SUPPLEMENTARY INFORMATION: The following described public land is proposed for classification under Section 7 of the Taylor Grazing Act, 43 U.S.C. 315f, and Executive Order No. 6910, and classification and conveyance under the provisions of the Recreation and Public Purposes (R&PP) Act, as amended (43 U.S.C. 869 et seq.), for the purpose of placement of a wastewater treatment plant.

Land proposed for this classification and disposal action is:

Gila and Salt River Meridian, La Paz County, Arizona

T. 10 N., R. 19 W.,

Sec. 26: E1/2SE1/4SW1/4.

The land described contains approximately 20 acres in La Paz County.

Requirements of the Arizona Department of Environmental Quality indicate a wastewater treatment plant is needed to serve the growing Colorado River area communities. In accordance with the R&PP Act, as amended, La Paz County has filed an R&PP petition/application and plan of development to the BLM Lake Havasu Field Office in which it proposes to develop a wastewater treatment plant on the above described public land. The land is not needed for federal purposes. Conveyance pursuant to the R&PP Act is consistent with the Lake Havasu Field Office Resource Management Plan, dated May 10, 2007, and would be in the public interest. Public meetings were held in conjunction with the planning process, and included discussions of the proposed classification and disposal of the above described public land under the R&PP Act.

The conveyance, when issued, will be subject to the following terms, conditions, and reservations:

1. Provisions of the R&PP Act and to all applicable regulations, including but not limited to regulations stated in 43 CFR Part 2470, and policy and guidance of the Secretary of the Interior.

2. Reservation of a right-of-way to the United States for ditches and canals pursuant to the Act of August 30, 1890, 43 U.S.C. 945.

3. All minerals shall be reserved to the United States, together with the right to prospect for, mine and remove the minerals under applicable laws and regulations established by the Secretary of the Interior, including all necessary access and exit rights.

4. No portion of the land patented shall revert back to the United States under any circumstances if such portion has been used for solid waste disposal or for any other purpose that the authorized officer determines may result in the disposal, placement, or release of any hazardous substance. In addition the patentee shall comply with all Federal state laws applicable to the disposal, placement, or release of hazardous substances (substances as defined in 40 CFR Part 302) and indemnify the United States against any legal liability or future costs that may arise out of any violation of such law.

5. All valid existing rights of record, including those documented on the official public land records at the time of patent issuance.

6. Pursuant to the requirements established by section 120(h) of the Comprehensive Environmental Response, Compensation and Liability Act, (42 U.S.C 9620(h)) (CERCLA), as amended by the Superfund Amendments and Reauthorization Act of 1988, (100 Stat. 1670) notice is hereby given that the above-described land has been examined and no evidence was found to indicate that any hazardous substances had been stored for one year or more, nor had any hazardous substances been disposed of or released on the subject property.

7. The purchaser/patentee, by accepting a patent, covenants and agrees to indemnity, defend, and hold the United States harmless from any costs, damages, claims, causes of action, penalties, fines, liabilities, and judgments of any kind or nature arising from the past, present, and future acts or omissions of the patentees or their employees, agents, contractors, lessees, or any third party, arising out of or in connection with the patentee's use, occupancy, or operations on the patented real property. This indemnification and hold harmless agreement includes, but is not limited to, acts and omissions of the patentee and their employees, agents, contractors, lessees, or any third party, arising out of or in connection with the use, and/or occupancy, of the patented real property which has already resulted or does hereafter result in: (1) Violations of Federal, State and local laws and regulations that are now or may in the future become, applicable to the real property; (2) Judgments, claims or demands of any kind assessed against the United States; (3) Costs, expenses or damages of any kind incurred by the United States; (4) Releases or threatened releases of solid or hazardous waste(s), and/or hazardous substances(s), as defined by Federal and State environmental laws, off, on, into or under land, property and other interests of the United States; (5) Activities by which solid waste or hazardous substances(s) or waste, as defined by Federal and State environmental laws, are generated, released, stored, used or otherwise disposed of on the patented real property, and any cleanup response, remedial action or other actions related in any manner to said solid or hazardous substances(s) or waste(s); or (6) natural resource damages as defined by Federal and State law. This covenant shall be construed as running with the parcel of land patented or otherwise conveyed by the United States, and may be enforced by the United States in a court of competent jurisdiction.

Upon publication of this notice in the Federal Register, the land will be segregated from all other forms of appropriation under the public land laws, including the general mining laws, except for conveyance under the R&PP Act, and leasing under the mineral leasing laws.

Interested parties may submit written comments on the proposed conveyance or classification of the land to the Field Manager, Lake Havasu Field Office, at the address stated above in this notice. Comments must be postmarked no later than August 9, 2007.

Before including your address, phone number, e-mail address, or other personal identifying information in your comment, you should be aware that your entire comment—including your personal identifying information—may be made publicly available at any time. While you can ask us in your comment to withhold your personal identifying information from public review, we cannot guarantee that we will be able to do so.

Classification Comments: Interested parties may submit written comments, postmarked no later than August 9, 2007 involving the suitability of the land for conveyance for the wastewater treatment plant. Comments on the classification are limited to whether the land is physically suited for the wastewater treatment plant, whether the use will maximize the future use or uses of the land, whether the use is consistent with local planning and zoning, or if the use is consistent with State and Federal programs.

Application Comments: Interested parties may submit written comments no later than August 9, 2007 regarding the specific use proposed in the application and plan of development, whether the BLM followed proper administrative procedures in reaching the decision, or any other factor not directly related to the suitability of the land for the wastewater treatment plant. Any adverse comments will be reviewed by the BLM State Director, who may sustain, vacate, or modify this realty action. In the absence of any adverse comments, the classification will become effective 60 days after June 25, 2007. The land will not be offered for conveyance until after the classification becomes effective.

(Authority: 43 CFR 2741.5)

Dated: April 30, 2007.
Timothy Z. Smith,
Field Manager.

[FR Doc. E7-12263 Filed 6-22-07; 8:45 am]

BILLING CODE 4310-32-P